FEDERAL COMMUNICATIONS COMMISSION

47 CFR Part 54

[WC Docket No. 10-90; Report No. 3070]

Petition for Reconsideration of Action in Rulemaking Proceeding

AGENCY: Federal Communications Commission.

ACTION: Petition for reconsideration.

SUMMARY: A Petition for Reconsideration (Petition) has been filed in the Commission's rulemaking proceeding by Paul C. Besozzi, on behalf of Adak Eagle Enterprises, LLC.

DATES: Oppositions to the Petition must be filed on or before March 6, 2017. Replies to an opposition must be filed on or before March 14, 2017.

ADDRESSES: Federal Communications Commission, 445 12th Street SW., Washington, DC 20554.

FOR FURTHER INFORMATION CONTACT: Alexander Minard, Telecommunications Access Policy Division, Wireline Competition Bureau, at (202) 418-7400 or email: Alexander.Minard@fcc.gov.

SUPPLEMENTARY INFORMATION: This is a summary of the Commission's document, Report No. 3070, released February 1, 2017. The full text of the Petition is available for viewing and copying at the FCC Reference Information Center, 445 12th Street SW., Room CY-A257, Washington, DC 20554. It also may be accessed online via the Commission's Electronic Comment Filing System at: https://ecfsapi.fcc.gov/file/10119227528923/AEE%20PFR%20FINAL.pdf. The Commission will not send a copy of this document pursuant to the Congressional Review Act, 5 U.S.C. 801(a)(1)(A), because this document does not have an impact on any rules of particular applicability.

Subject: Connect America Fund, FCC 16-178, released by the Commission on December 20, 2016, in WC Docket No. 10-90. This document is being published pursuant to 47 CFR 1.429(e). See also 47 CFR 1.4(b)(1) and 1.429(f), (g).

Number of Petitions Filed: 1.

Federal Communications Commission.
Marlene H. Dortch,
Secretary.

[FR Doc. 2017-03229 Filed 2-16-17; 8:45 am]

BILLING CODE 6712-01-P